DEPARTMENT OF COMMERCE

International Trade Administration

[C-533-882]

Large Diameter Welded Pipe From India: Final Results of the Expedited First Sunset Review of the Countervailing Duty Order

AGENCY: Enforcement and Compliance, International Trade Administration, Department of Commerce.

SUMMARY: The U.S. Department of Commerce (Commerce) finds that revocation of the countervailing duty (CVD) order on large diameter welded pipe (LDWP) from India would be likely to lead to continuation or recurrence of countervailable subsidies at the levels indicated in the “Final Results of Sunset Review” section of this notice.

DATES: Applicable May 22, 2024.

FOR FURTHER INFORMATION CONTACT: Noah Wetzel, AD/CVD Operations, Office VIII, Enforcement and Compliance, International Trade Administration, U.S. Department of Commerce, 1401 Constitution Avenue NW, Washington, DC 20230; telephone: (202) 482-7466.

SUPPLEMENTARY INFORMATION:

Background

On March 6, 2019, Commerce published the Order on LDWP from India.¹ On February 1, 2024, Commerce published the notice of initiation of the first sunset review of the Order, pursuant to section 751(c) of the Tariff Act of 1930, as amended (the Act), and 19 CFR 351.218(c).² On February 16, 2024, Commerce received a timely notice of intent to participate from the domestic interested party in the underlying investigation, American Line Pipe Producers Association Trade Committee,³ within the 15-day deadline specified in 19 CFR 351.218(d)(1)(i).⁴ The domestic interested party claimed interested party status within the meaning of section 771(9)(F) of the Act and 19 CFR 351.102(b)(29)(viii) as an association in which the majority of its members are producers of the domestic like product.⁵

¹ See Large Diameter Welded Pipe from India: Countervailing Duty Order, 84 FR 8085 (March 6, 2019) (Order).

² See Initiation of Five-Year (Sunset) Reviews, 89 FR 6499 (February 1, 2024) (Initiation Notice).

³ American Line Pipe Producers Association Trade Committee was the petitioner in the underlying investigation.

⁴ See Domestic Interested Party's Letter, “Notice of Intent to Participate,” dated February 16, 2024.

⁵ Id. at 2.

On March 4, 2024, Commerce received an adequate substantive response to the Initiation Notice from the domestic interested party within the 30-day deadline specified in 19 CFR 351.218(d)(3)(i).⁶ Commerce received no responses from the Government of India (GOI) or from any other interested party. In accordance with section 751(c)(3)(B) of the Act, because Commerce did not receive a substantive response from the GOI or a respondent party, pursuant to 19 CFR 351.218(e)(1)(ii)(B) and (e)(1)(ii)(C), respectively, we determined that the respondent interested parties did not provide an adequate response to the Initiation Notice. Therefore, consistent with 19 CFR 351.218(e)(1)(ii)(B)(2) and (e)(1)(ii)(C)(2), on March 22, 2024, Commerce notified the International Trade Commission that it did not receive an adequate substantive response from respondent interested parties, and that it would conduct an expedited (120-day) sunset review of the Order.⁷

⁶ See Domestic Interested Party's Letter, “Large Diameter Welded Carbon and Alloy Steel Line Pipe from India: Substantive Response to Notice of Initiation,” dated March 4, 2024 (Substantive Response).

⁷ See Commerce's Letter, “Sunset Reviews for February 2024,” dated March 22, 2024.

Scope of the Order

The product covered by the Order is large diameter welded pipe from India. For a complete description of the scope of the Order, see the Issues and Decision Memorandum.⁸

⁸ See Memorandum, “Decision Memorandum for the Final Results of the Expedited First Sunset Review of the Countervailing Duty Order on Large Diameter Welded Pipe from India,” dated concurrently with, and hereby adopted by, this notice (Issues and Decision Memorandum).

Analysis of Comments Received

A complete discussion of all issues raised in this sunset review, including the likelihood of the continuation or recurrence of subsidization in the event of revocation of the Order and the countervailable subsidy rates likely to prevail if the Order were to be revoked, is provided in the accompanying Issues and Decision Memorandum. A list of the topics discussed in the Issues and Decision Memorandum is attached as an appendix to this notice. The Issues and Decision Memorandum is a public document and is on file electronically via Enforcement and Compliance's Antidumping and Countervailing Duty Centralized Electronic Service System (ACCESS), which is available to registered users at https://access.trade.gov. In addition, a complete version of the Issues and Decision Memorandum can be accessed directly at https://access.trade.gov/public/FRNotices/ListLayout.aspx.

Final Results of Sunset Review

Pursuant to sections 751(c)(1) and 752(b) of the Act, we determine that revocation of the Order would be likely to lead to continuation or recurrence of countervailable subsidies at the following net countervailable subsidy rates:

Company | Subsidy rate (percent ad valorem)
Bhushan Steel | 541.15
Welspun Trading Limited | 541.15
All Others | 541.15

Administrative Protective Order

This notice serves as the only reminder to parties subject to an administrative protective order (APO) of their responsibility concerning the disposition of proprietary information disclosed under APO in accordance with 19 CFR 351.305(a), which continues to govern business proprietary information in this segment of the proceeding. Timely written notification of the destruction of APO materials or conversion to judicial protective order is hereby requested. Failure to comply with the regulations and terms of an APO is a violation which is subject to sanction.

Notification to Interested Parties

Commerce is issuing and publishing these final results and this notice in accordance with sections 751(c), 752(b), and 777(i)(1) of the Act, and 19 CFR 351.218.

Dated: May 15, 2024.
Ryan Majerus,
Deputy Assistant Secretary for Policy and Negotiations, performing the non-exclusive functions and duties of the Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of a Countervailable Subsidy

2. Net Countervailable Subsidy Rates Likely To Prevail

3. Nature of the Subsidies

VII. Final Results of Sunset Review

VIII. Recommendation

[FR Doc. 2024-11207 Filed 5-21-24; 8:45 am]

BILLING CODE 3510-DS-P